NUCLEAR REGULATORY COMMISSION

Proposed Generic Communication Post-Fire Safe-Shutdown Circuit Analysis Spurious Actuations

AGENCY: Nuclear Regulatory Commission (NRC).

ACTION: Notice of opportunity for public comment. Reopening of comment period.

SUMMARY: On October 19, 2005 (70 FR 60859), the NRC published for public comment a generic letter (GL) to:

(1) Request addressees to review their fire protection program to confirm compliance with existing applicable regulatory requirements regarding their assumptions of the phrase “one-at-a-time” in light of the information provided in this GL and, if appropriate, take additional actions to return to compliance. Specifically, although some licensees have performed their post-fire, safe-shutdown circuit analyses based on an assumption of only a single spurious actuation per fire event or that spurious actuations will occur “one-at-a-time,” recent industry cable fire test results demonstrated that these assumptions are not valid.

(2) Require addressees to submit a written response to the NRC in accordance with NRC regulations in Title 10 of the Code of Federal Regulations (10 CFR) Section 50.54(f).

The Nuclear Energy Institute (NEI) has requested a 45-day extension of the comment period. NEI believes that additional time will be needed to provide appropriate comments on the draft GL. NEI based its request on the time needed to perform an assessment of the safety significance of multiple sequential and cumulative failures; an evaluation of the industry test results and interviews with the industry project team; an evaluation of the NUREG/CR-6776, and an assessment of the NRC/licensee documentation associated with the prior NRC staff positions and practices related to safe-shutdown circuit analysis. The NRC has decided to reopen the comment period for an additional 45 days.

This Federal Register notice is available through the NRC's Agencywide Documents Access and Management System (ADAMS) under accession number ML051650017.

DATES: The comment period has been extended and now expires February 6, 2006. Comments submitted after this date will be considered if it is practical to do so, but assurance of consideration cannot be given except for comments received on or before this date.

ADDRESSEES: Submit written comments to the Chief, Rules and Directives Branch, Division of Administrative Services, Office of Administration, U.S. Nuclear Regulatory Commission, Mail Stop T6-D59, Washington, DC 20555-0001, and cite the publication date and page number of this Federal Register notice. Written comments may also be delivered to NRC Headquarters, 11545 Rockville Pike (Room T-6D59), Rockville, Maryland, between 7:30 am and 4:15 pm on Federal workdays.

FOR FURTHER INFORMATION CONTACT: Robert Wolfgang at 301-415-1624 or by e-mail: rjw1@nrc.gov.

Documents may be examined, and/or copied for a fee, at the NRC's Public Document Room at One White Flint North, 11555 Rockville Pike (first floor), Rockville, Maryland. Publicly available records will be accessible electronically from the Agencywide Documents Access and Management System (ADAMS) Public Electronic Reading Room on the Internet at the NRC Web site, http://www.nrc.gov/NRC/ADAMS/index.html. If you do not have access to ADAMS or if you have problems in accessing the documents in ADAMS, contact the NRC Public Document Room (PDR) reference staff at 1-800-397-4209 or 301-415-4737 or by e-mail to pdr@nrc.gov.

Dated at Rockville, Maryland, this Friday the 16th day of December 2005.
For the Nuclear Regulatory Commission.
Christopher I. Grimes,
Division of Policy and Rulemaking, Office of Nuclear Reactor Regulation.

[FR Doc. E5-7702 Filed 12-21-05; 8:45 am]

BILLING CODE 7590-01-P